DEPARTMENT OF AGRICULTURE

Forest Service

Forest Service Strategic Plan (2003 Update)

AGENCY: Forest Service, USDA.

ACTION: Notice.

SUMMARY: Pursuant to the Government Performance and Results Act of 1993, the Forest Service will be updating its strategic plan over the next twelve months. The purpose of this plan is to outline long-term goals and objectives that will help guide the agency's current actions and future plans. In the past, the Forest Service has found that public comment has been helpful in developing the strategic plan and its subsequent updates. This notice, therefore, announces the opportunity for the public to review the agency's current strategic plan and to recommend changes that should be included in the draft 2003 update.

DATES: Comments must be received, in writing, on or before December 30, 2002.

ADDRESSES: Send written comments for the draft 2003 update of the strategic plan to the Director, Strategic Planning and Resource Assessment Staff, via U.S. Postal Service to Forest Service, USDA, Mail Stop 1129, 1400 Independence Ave., SW, Washington, DC 20250-1129; via email to spra@fs.fed.us; or via facsimile to (703) 605-4199. The public may inspect comments received on this notice in the office of the Director of Strategic Planning and Resource Assessment, Sixth Floor, Rosslyn Plaza, Building E, 1621 North Kent Street, Arlington, VA 22209. Persons wishing to inspect the comments are encouraged to call ahead at (703) 605-4488 to facilitate entrance into the building.

FOR FURTHER INFORMATION CONTACT: Nancy Osborne, Strategic Planning and Resource Assessment Staff, (703) 605-4488; or via email at spra@fs.fed.us. Additional information concerning the strategic plan, including the current plan, may be obtained on the Internet at http://www.fs.fed.us/plan.

SUPPLEMENTARY INFORMATION: The intent of the strategic plan is to outline long-term goals and objectives that will help guide the agency's current actions and future plans. Management strategies are identified under each objective that provide key approaches to be used to achieve the stated goals and objectives. The draft 2003 update of the strategic plan will be developed using the Montreal Process Criteria and Indicators for forest conservation and sustainable management as a framework for identifying goals, objectives, and trend indicators focused on the agency mission of sustainable resource management. Three goals are envisioned for the draft 2003 update of the strategic plan: (1) Sustaining ecosystem health, diversity, and productivity of national forests and grasslands, (2) providing the American people with a sustainable flow of goods and services, and (3) maintaining organizational capacity to deliver effective public service.

More information on the Montreal Process Criteria and Indicators and on current trends in the indicators for the United States is available at http://www2.srs.fs.fed.us/2003/2003.htm, the Web site for the draft National Report on Sustainable Forests. In addition, it is anticipated that the 2003 update of the Forest Service Strategic Plan will be available for public comment in spring 2003.

Dated: October 18, 2002.
Sally D. Collins,
Associate Chief.

[FR Doc. 02-27333 Filed 10-25-02; 8:45 am]

BILLING CODE 3410-11-P